DEPARTMENT OF COMMERCE

International Trade Administration

[A-580-880, A-201-847, A-489-824]

Heavy Walled Rectangular Welded Carbon Steel Pipes and Tubes From the Republic of Korea, Mexico, and the Republic of Turkey: Initiation of Less-Than-Fair-Value Investigations

AGENCY: Enforcement and Compliance, International Trade Administration, Department of Commerce.

DATES: Effective Date: August 17, 2015.

FOR FURTHER INFORMATION CONTACT: Elizabeth Eastwood at (202) 482-3874 (the Republic of Korea and Mexico), or Brandon Custard at (202) 482-1823 (the Republic of Turkey), AD/CVD Operations, Enforcement and Compliance, U.S. Department of Commerce, 14th Street and Constitution Avenue NW., Washington, DC 20230.

SUPPLEMENTARY INFORMATION:

The Petitions

On July 21, 2015, the Department of Commerce (the Department) received antidumping duty (AD) petitions concerning imports of heavy walled rectangular carbon steel pipes and tubes (HWR pipes and tubes) from the Republic of Korea (Korea), Mexico, and the Republic of Turkey (Turkey) filed in proper form on behalf of Atlas Tube, a division of JMC Steel Group, Bull Moose Tube Company, EXLTUBE,¹ Hannibal Industries, Inc., Independence Tube Corporation, Maruichi American Corporation, Searing Industries, Southland Tube, and Vest, Inc. (collectively, the petitioners). The AD petitions were accompanied by one countervailing duty (CVD) petition also concerning imports of HWR pipes and tubes from Turkey.² The petitioners are domestic producers of HWR pipes and tubes.³

¹ EXLTUBE is not a petitioner in the AD petition concerning imports of HWR pipes and tubes from Mexico.

² See Petitions for the Imposition of Antidumping and Countervailing Duties: Heavy Walled Rectangular Welded Carbon Steel Pipes and Tubes from Korea, Mexico, and Turkey, dated July 21, 2015 (the Petitions).

³ See Volume I of the Petitions, at 2.

On July 23, 2015, the Department requested additional information and clarification of certain areas of the Petitions.⁴ The petitioners filed responses to these requests on July 24 and 27, 2015.⁵

⁴ See Letter from the Department to Petitioners entitled “Re: Petitions for the Imposition of Antidumping Duties on Imports of Heavy Walled Rectangular Welded Carbon Steel Pipes and Tubes from the Republic of Korea, Mexico, and the Republic of Turkey and Countervailing Duties on Imports of Heavy Walled Rectangular Welded Carbon Steel Pipes and Tubes from the Republic of Turkey: Supplemental Questions,” dated July 23, 2015; Letter from the Department to Petitioners entitled “Re: Petition for the Imposition of Antidumping Duties on Imports of Heavy Walled Rectangular Welded Carbon Steel Pipes and Tubes from Korea: Supplemental Questions,” dated July 23, 2015; Letter from the Department to Petitioners entitled “Re: Petition for the Imposition of Antidumping Duties on Imports of Heavy Walled Rectangular Welded Carbon Steel Pipes and Tubes from Mexico: Supplemental Questions,” dated July 23, 2015; and Letter from the Department to Petitioners entitled “Re: Petition for the Imposition of Antidumping Duties on Imports of Heavy Walled Rectangular Welded Carbon Steel Pipes and Tubes from the Republic of Turkey: Supplemental Questions,” dated July 23, 2015. (collectively, General Issues Supplemental Questionnaire).

⁵ See Letters from the petitioners entitled, “Heavy Walled Rectangular Welded Carbon Steel Pipes and Tubes from Korea,” “Heavy Walled Rectangular Welded Carbon Steel Pipes and Tubes from Mexico,” and “Heavy Walled Rectangular Welded Carbon Steel Pipes and Tubes from Turkey,” dated July 24, 2015; Response to the Department's July 23, 2015, Supplemental Questionnaire Regarding Volume I of the Petitions for the Antidumping and Countervailing Duties, dated July 27, 2015 (General Issues Supplement); and Response to the Department's July 23, 2015, Supplemental Questionnaires Regarding Volumes II, III, and IV of the Petitions for the Imposition of Antidumping and Countervailing Duties, dated July 27, 2015.

In accordance with section 732(b) of the Tariff Act of 1930, as amended (the Act), the petitioners allege that imports of HWR pipes and tubes from Korea, Mexico, and Turkey are being, or are likely to be, sold in the United States at less-than-fair value within the meaning of section 731 of the Act, and that such imports are materially injuring, or threatening material injury to, an industry in the United States. Also, consistent with section 732(b)(1) of the Act, the Petitions are accompanied by information reasonably available to the petitioners supporting their allegations.

The Department finds that the petitioners filed these Petitions on behalf of the domestic industry because the petitioners are interested parties as defined in section 771(9)(C) of the Act. The Department also finds that the petitioners demonstrated sufficient industry support with respect to the initiation of the AD investigations that the petitioners are requesting.⁶

⁶ See the “Determination of Industry Support for the Petitions” section below.

Period of Investigation

Because the Petitions were filed on July 21, 2015, pursuant to 19 CFR 351.204(b)(1) the period of investigation (POI) is July 1, 2014, through June 30, 2015.

Scope of the Investigations

The product covered by these investigations is HWR pipes and tubes from Korea, Mexico, and Turkey. For a full description of the scope of these investigations, see the “Scope of the Investigations,” in Appendix I of this notice.

Comments on Scope of the Investigations

During our review of the Petitions, the Department issued questions to, and received responses from, the petitioners pertaining to the proposed scope to ensure that the scope language in the Petitions would be an accurate reflection of the products for which the domestic industry is seeking relief.⁷

⁷ See General Issues Supplemental Questionnaire; see also General Issues Supplement.

As discussed in the preamble to the Department's regulations, we are setting aside a period for interested parties to raise issues regarding product coverage (scope). The Department will consider all comments received from parties and, if necessary, will consult with parties prior to the issuance of the preliminary determinations. If scope comments include factual information (see 19 CFR 351.102(b)(21)), all such factual information should be limited to public information. In order to facilitate preparation of its questionnaires, the Department requests all interested parties to submit such comments by 5:00 p.m. Eastern Time (ET) on Monday, August 31, 2015, which is the first business day after 20 calendar days from the signature date of this notice. Any rebuttal comments, which may include factual information, must be filed by 5:00 p.m. ET on Thursday, September 10, 2015, which is 10 calendar days after the initial comments deadline.

The Department requests that any factual information the parties consider relevant to the scope of the investigations be submitted during this time period. However, if a party subsequently finds that additional factual information pertaining to the scope of the investigations may be relevant, the party may contact the Department and request permission to submit the additional information. All such comments must be filed on the records of each of the concurrent AD and CVD investigations.

Filing Requirements

Submissions to the Department must normally be filed electronically using Enforcement and Compliance's Antidumping and Countervailing Duty Centralized Electronic Service System (ACCESS).⁸ An electronically filed document must be received successfully in its entirety by the time and date when it is due. Documents excepted from the electronic submission requirements must be filed manually (i.e., in paper form) with Enforcement and Compliance's APO/Dockets Unit, Room 18022, U.S. Department of Commerce, 14th Street and Constitution Avenue NW., Washington, DC 20230, and stamped with the date and time of receipt by the applicable deadlines.

⁸ See 19 CFR 351.303 (for general filing requirements); Antidumping and Countervailing Duty Proceedings: Electronic Filing Procedures; Administrative Protective Order Procedures, 76 FR 39263 (July 6, 2011) for details of the Department's electronic filing requirements, which went into effect on August 5, 2011. Information on help using ACCESS can be found at https://access.trade.gov/help.aspx and a handbook can be found at https://access.trade.gov/help/Handbook%20on%20Electronic%20Filling%20Procedures.pdf.

Comments on Product Characteristics for AD Questionnaires

The Department requests comments from interested parties regarding the appropriate physical characteristics of HWR pipes and tubes to be reported in response to the Department's AD questionnaires. This information will be used to identify the key physical characteristics of the subject merchandise in order to report the relevant factors and costs of production accurately as well as to develop appropriate product-comparison criteria.

Interested parties may provide any information or comments that they feel are relevant to the development of an accurate list of physical characteristics. Specifically, they may provide comments as to which characteristics are appropriate to use as: (1) General product characteristics and (2) product-comparison criteria. We note that it is not always appropriate to use all product characteristics as product-comparison criteria. We base product-comparison criteria on meaningful commercial differences among products. In other words, although there may be some physical product characteristics utilized by manufacturers to describe HWR pipes and tubes, it may be that only a select few product characteristics take into account commercially meaningful physical characteristics. In addition, interested parties may comment on the order in which the physical characteristics should be used in matching products. Generally, the Department attempts to list the most important physical characteristics first and the least important characteristics last.

In order to consider the suggestions of interested parties in developing and issuing the AD questionnaires, all comments must be filed by 5:00 p.m. ET on Monday, August 31, 2015, which is 21 calendar days from the signature date of this notice. Any rebuttal comments must be filed by 5:00 p.m. ET on Thursday, September 10, 2015. All comments and submissions to the Department must be filed electronically using ACCESS, as explained above, on the records of the Korea, Mexico, and Turkey less-than-fair-value investigations.

Determination of Industry Support for the Petitions

Section 732(b)(1) of the Act requires that a petition be filed on behalf of the domestic industry. Section 732(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, the Department shall: (i) Poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs the Department to look to producers and workers who produce the domestic like product. The International Trade Commission (ITC), which is responsible for determining whether “the domestic industry” has been injured, must also determine what constitutes a domestic like product in order to define the industry. While both the Department and the ITC must apply the same statutory definition regarding the domestic like product,⁹ they do so for different purposes and pursuant to a separate and distinct authority. In addition, the Department's determination is subject to limitations of time and information. Although this may result in different definitions of the like product, such differences do not render the decision of either agency contrary to law.¹⁰

⁹ See section 771(10) of the Act.

¹⁰ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the Petitions).

With regard to the domestic like product, the petitioners do not offer a definition of the domestic like product distinct from the scope of the investigations. Based on our analysis of the information submitted on the record, we have determined that HWR pipes and tubes, as defined in the scope of the investigations, constitute a single domestic like product and we have analyzed industry support in terms of that domestic like product.¹¹

¹¹ For a discussion of the domestic like product analysis in this case, see Antidumping Duty Investigation Initiation Checklist: Heavy Walled Rectangular Welded Carbon Steel Pipes and Tubes from the Republic of Korea (Korea Initiation Checklist), at Attachment II, Analysis of Industry Support for the Antidumping and Countervailing Duty Petitions Covering Heavy Walled Rectangular Welded Carbon Steel Pipes and Tubes from the Republic of Korea, Mexico, and the Republic of Turkey (Attachment II); Antidumping Duty Investigation Initiation Checklist: Heavy Walled Rectangular Welded Carbon Steel Pipes and Tubes from Mexico (Mexico Initiation Checklist), at Attachment II; and Antidumping Duty Investigation Initiation Checklist: Heavy Walled Rectangular Welded Carbon Steel Pipes and Tubes from the Republic of Turkey (Turkey AD Initiation Checklist), at Attachment II. These checklists are dated concurrently with this notice and on file electronically via ACCESS. Access to documents filed via ACCESS is also available in the Central Records Unit, Room B8024 of the main Department of Commerce building.

In determining whether the petitioners have standing under section 732(c)(4)(A) of the Act, we considered the industry support data contained in the Petitions with reference to the domestic like product as defined in the “Scope of the Investigations,” in Appendix I of this notice. To establish industry support, the petitioners provided their own shipments of the domestic like product in 2014 and compared their shipments to the estimated total shipments of the domestic like product for the entire domestic industry.¹² Because data regarding total production of the domestic like product for 2014 are not reasonably available to the petitioners and the petitioners have established that shipments are a reasonable proxy for production,¹³ we relied on the shipment data provided by the petitioners for purposes of measuring industry support.¹⁴ We note that EXLTUBE is not a petitioner with respect to the petition for the imposition of antidumping duties on imports of HWR pipes and tubes from Mexico and has not expressed an opinion with regard to the petition on imports from Mexico. Therefore, we have not included shipments from EXLTUBE to measure industry support for the Mexico Petition.¹⁵

¹² See Volume I of the Petitions, at 3-4 and Exhibits I-1 and I-2; see also General Issues Supplement, at 4-5 and Exhibit I-10.

¹³ See Volume I of the Petitions, at 3-4; see also General Issues Supplement, at 4.

¹⁴ For further discussion, see Korea Initiation Checklist, Mexico Initiation Checklist, and Turkey AD Initiation Checklist, at Attachment II.

¹⁵ See Volume I of the Petitions, at 1.

Our review of the data provided in the Petitions, General Issues Supplement, and other information readily available to the Department indicates that the petitioners have established industry support for all of the Petitions.¹⁶ First, the Petitions established support from domestic producers (or workers) accounting for more than 50 percent of the total shipments ¹⁷ of the domestic like product and, as such, the Department is not required to take further action in order to evaluate industry support (e.g., polling).¹⁸ Second, the domestic producers (or workers) have met the statutory criteria for industry support under section 732(c)(4)(A)(i) of the Act for all of the Petitions because the domestic producers (or workers) who support each of the Petitions account for at least 25 percent of the total shipments of the domestic like product.¹⁹ Finally, the domestic producers (or workers) have met the statutory criteria for industry support under section 732(c)(4)(A)(ii) of the Act for all of the Petitions because the domestic producers (or workers) who support each of the Petitions account for more than 50 percent of the shipments of the domestic like product produced by that portion of the industry expressing support for, or opposition to, the Petitions.²⁰ Accordingly, the Department determines that the Petitions were filed on behalf of the domestic industry within the meaning of section 732(b)(1) of the Act.

¹⁶ See Korea Initiation Checklist, Mexico Initiation Checklist, and Turkey AD Initiation Checklist, at Attachment II.

¹⁷ As mentioned above, the petitioners established that shipments are a reasonable proxy for production data. Section 351.203(e)(1) of the Department's regulations states “production levels may be established by reference to alternative data that the Secretary determines to be indicative of production levels.”

¹⁸ See section 732(c)(4)(D) of the Act; see also Korea Initiation Checklist, Mexico Initiation Checklist, and Turkey AD Initiation Checklist, at Attachment II.

¹⁹ See Korea Initiation Checklist, Mexico Initiation Checklist, and Turkey AD Initiation Checklist, at Attachment II.

²⁰ Id.

The Department finds that the petitioners filed the Petitions on behalf of the domestic industry because they are interested parties as defined in section 771(9)(C) of the Act and they have demonstrated sufficient industry support with respect to the AD investigations that they are requesting the Department initiate.²¹

²¹ Id.

Allegations and Evidence of Material Injury and Causation

The petitioners allege that the U.S. industry producing the domestic like product is being materially injured, or is threatened with material injury, by reason of the imports of the subject merchandise sold at less than normal value (NV). In addition, the petitioners allege that subject imports exceed the negligibility threshold provided for under section 771(24)(A) of the Act.²²

²² See General Issues Supplement, at 5 and Exhibit I-13.

The petitioners contend that the industry's injured condition is illustrated by reduced market share; underselling and price depression or suppression; lost sales and revenues; increased inventories and inventory overhang in the U.S. market; and decline in profitability.²³ We have assessed the allegations and supporting evidence regarding material injury, threat of material injury, and causation, and we have determined that these allegations are properly supported by adequate evidence and meet the statutory requirements for initiation.²⁴

²³ See Volume I of the Petitions, at 9-10, 12-27 and Exhibits I-1, I-5, I-7 and I-8; see also General Issues Supplement, at 1, 5 and Exhibits I-12 and I-13.

²⁴ See Korea Initiation Checklist, Mexico Initiation Checklist, and Turkey AD Initiation Checklist, at Attachment III, Analysis of Allegations and Evidence of Material Injury and Causation for the Antidumping and Countervailing Duty Petitions Covering Heavy Walled Rectangular Welded Carbon Steel Pipes and Tubes from the Republic of Korea, Mexico, and the Republic of Turkey.

Allegations of Sales at Less-Than-Fair Value

The following is a description of the allegations of sales at less-than-fair value upon which the Department based its decision to initiate investigations of imports of HWR pipes and tubes from Korea, Mexico, and Turkey. The sources of data for the deductions and adjustments relating to U.S. price and NV are discussed in greater detail in the country-specific initiation checklists.

Export Price

For Korea, Mexico, and Turkey, the petitioners based U.S. price on price quotes/offers for sales of HWR pipes and tubes produced in, and exported from, the subject country.²⁵ The petitioners made deductions from U.S. price for movement expenses consistent with the delivery terms.²⁶ Where applicable, the petitioners also deducted from U.S. price trading company mark-ups estimated using the petitioners' knowledge of the U.S. industry.²⁷

²⁵ See Korea Initiation Checklist; Mexico Initiation Checklist; and Turkey AD Initiation Checklist.

²⁶ Id.

²⁷ Id.

Normal Value

For Korea, Mexico, and Turkey, the petitioners provided home market price information obtained through market research for HWR pipes and tubes produced and offered for sale in each of these countries.²⁸ For each country, the petitioners provided an affidavit or declaration from a market researcher for the price information.²⁹ The petitioners made no adjustments to these prices consistent with the terms of sale.

²⁸ Id.

²⁹ Id.; see also Memoranda to the File, “Telephone Call to Foreign Market Researcher Regarding Antidumping Duty Petition,” on each of the country-specific records, dated July 31, 2015.

Fair Value Comparisons

Based on the data provided by the petitioners, there is reason to believe that imports of HWR pipes and tubes from Korea, Mexico, and Turkey are being, or are likely to be, sold in the United States at less-than-fair value. Based on comparisons of export price to NV in accordance with section 773(a) of the Act, the estimated dumping margin for HWR pipes and tubes from Korea is 53.8 percent.³⁰ The estimated dumping margin for Mexico is 11.9 percent.³¹ The estimated dumping margins for Turkey range from 102.1 to 113.7 percent.³²

³⁰ See Korea Initiation Checklist.

³¹ See Mexico Initiation Checklist.

³² See Turkey AD Initiation Checklist.

Initiation of Less-Than-Fair-Value Investigations

Based upon the examination of the AD Petitions on HWR pipes and tubes from Korea, Mexico, and Turkey, we find that Petitions meet the requirements of section 732 of the Act. Therefore, we are initiating AD investigations to determine whether imports of HWR pipes and tubes from Korea, Mexico and Turkey, are being, or are likely to be, sold in the United States at less-than-fair value. In accordance with section 733(b)(1)(A) of the Act and 19 CFR 351.205(b)(1), unless postponed, we will make our preliminary determinations no later than 140 days after the date of this initiation.

Respondent Selection

The petitioners named ten companies from Korea, ten companies from Mexico, and 14 companies from Turkey as producers/exporters of HWR pipes and tubes.³³ Following standard practice in AD investigations involving market economy countries, the Department intends to select respondents based on U.S. Customs and Border Protection (CBP) data for U.S. imports during the POI under Harmonized Tariff Schedule of the United States (HTSUS) number 7306.61.1000.³⁴ We intend to release the CBP data under Administrative Protective Order (APO) to all parties with access to information protected by APO within five days of publication of this Federal Register notice and make our decision regarding respondent selection within 20 days of publication of this notice.

³³ See Volume I of the Petitions, at Exhibit I-4.

³⁴ While the scope also references HTSUS number 7306.61.3000, we note that this HTSUS number includes non-subject merchandise. Therefore, we do not intend to use data for this HTSUS number for purposes of respondent selection.

We invite interested parties to comment on this issue. Parties wishing to comment must do so within seven days of the publication of this notice in the Federal Register. Comments must be filed electronically using ACCESS. An electronically-filed document must be received successfully in its entirety by the Department's electronic records system, ACCESS, by 5 p.m. ET by the deadline noted above.

Distribution of Copies of the Petitions

In accordance with section 732(b)(3)(A) of the Act and 19 CFR 351.202(f), copies of the public version of the Petitions have been provided to the governments of Korea, Mexico, and Turkey via ACCESS. To the extent practicable, we will attempt to provide a copy of the public version of the Petitions to each exporter named in the Petitions, as provided under 19 CFR 351.203(c)(2).

ITC Notification

We have notified the ITC of our initiation, as required by section 732(d) of the Act.

Preliminary Determinations by the ITC

The ITC will preliminarily determine, within 45 days after the date on which the Petitions were filed, whether there is a reasonable indication that imports of HWR pipes and tubes from Korea, Mexico, and/or Turkey are materially injuring or threatening material injury to a U.S. industry.³⁵ A negative ITC determination for any country will result in the investigation being terminated with respect to that country; ³⁶ otherwise, these investigations will proceed according to statutory and regulatory time limits.

³⁵ See section 733(a) of the Act.

³⁶ Id.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). The regulation requires any party, when submitting factual information, to specify under which subsection of 19 CFR 351.102(b)(21) the information is being submitted and, if the information is submitted to rebut, clarify, or correct factual information already on the record, to provide an explanation identifying the information already on the record that the factual information seeks to rebut, clarify, or correct. Time limits for the submission of factual information are addressed in 19 CFR 351.301, which provides specific time limits based on the type of factual information being submitted. Please review the regulations prior to submitting factual information in these investigations.

Extensions of Time Limits

Parties may request an extension of time limits before the expiration of a time limit established under part 351, or as otherwise specified by the Secretary. In general, an extension request will be considered untimely if it is filed after the expiration of the time limit established under part 351 expires. For submissions that are due from multiple parties simultaneously, an extension request will be considered untimely if it is filed after 10:00 a.m. on the due date. Under certain circumstances, we may elect to specify a different time limit by which extension requests will be considered untimely for submissions which are due from multiple parties simultaneously. In such a case, we will inform parties in the letter or memorandum setting forth the deadline (including a specified time) by which extension requests must be filed to be considered timely. An extension request must be made in a separate, stand-alone submission; under limited circumstances we will grant untimely-filed requests for the extension of time limits. Review Extension of Time Limits; Final Rule, 78 FR 57790 (September 20, 2013), available at http://www.gpo.gov/fdsys/pkg/FR-2013-09-20/html/2013-22853.htm, prior to submitting factual information in these investigations.

Certification Requirements

Any party submitting factual information in an AD or CVD proceeding must certify to the accuracy and completeness of that information.³⁷ Parties are hereby reminded that revised certification requirements are in effect for company/government officials, as well as their representatives. Investigations initiated on the basis of petitions filed on or after August 16, 2013, and other segments of any AD or CVD proceedings initiated on or after August 16, 2013, should use the formats for the revised certifications provided at the end of the Final Rule.³⁸ The Department intends to reject factual submissions if the submitting party does not comply with applicable revised certification requirements.

³⁷ See section 782(b) of the Act.

³⁸ See Certification of Factual Information to Import Administration during Antidumping and Countervailing Duty Proceedings, 78 FR 42678 (July 17, 2013) (Final Rule); see also frequently asked questions regarding the Final Rule, available at http://enforcement.trade.gov/tlei/notices/factual_info_final_rule_FAQ_07172013.pdf.

Notification to Interested Parties

Interested parties must submit applications for disclosure under APO in accordance with 19 CFR 351.305. On January 22, 2008, the Department published Antidumping and Countervailing Duty Proceedings: Documents Submission Procedures; APO Procedures, 73 FR 3634 (January 22, 2008). Parties wishing to participate in these investigations should ensure that they meet the requirements of these procedures (e.g., the filing of letters of appearance as discussed in 19 CFR 351.103(d)).

This notice is issued and published pursuant to sections 732 and 777(i) of the Act.

Dated: August 10, 2015.
Ronald K. Lorentzen,
Acting Assistant Secretary for Enforcement and Compliance.

Appendix I

Scope of the Investigations

The products covered by these investigations are certain heavy walled rectangular welded steel pipes and tubes of rectangular (including square) cross section, having a nominal wall thickness of not less than 4 mm. The merchandise includes, but is not limited to, the American Society for Testing and Materials (ASTM) A-500, grade B specifications, or comparable domestic or foreign specifications.

Included products are those in which: (1) Iron predominates, by weight, over each of the other contained elements; (2) the carbon content is 2 percent or less, by weight; and (3) none of the elements below exceeds the quantity, by weight, respectively indicated:

• 2.50 percent of manganese, or

• 3.30 percent of silicon, or

• 1.50 percent of copper, or

• 1.50 percent of aluminum, or

• 1.25 percent of chromium, or

• 0.30 percent of cobalt, or

• 0.40 percent of lead, or

• 2.0 percent of nickel, or

• 0.30 percent of tungsten, or

• 0.80 percent of molybdenum, or

• 0.10 percent of niobium (also called columbium), or

• 0.30 percent of vanadium, or

• 0.30 percent of zirconium.

The subject merchandise is currently provided for in item 7306.61.1000 of the Harmonized Tariff Schedule of the United States (HTSUS). Subject merchandise may also enter under HTSUS 7306.61.3000. While the HTSUS subheadings and ASTM specification are provided for convenience and customs purposes, the written description of the scope of these investigations is dispositive.

[FR Doc. 2015-20271 Filed 8-14-15; 8:45 am]

BILLING CODE 3510-DS-P